FEDERAL EMERGENCY MANAGEMENT AGENCY

Open Meeting of the Federal Interagency Committee on Emergency Medical Services (FICEMS).

AGENCY: Federal Emergency Management Agency (FEMA).

ACTION: Notice of open meeting.

SUMMARY: FEMA announces the following open meeting.

Name: Federal Interagency Committee on Emergency Medical Services (FICEMS).

Date of Meeting: December 7, 2000.

Place: Room 4236, United States Department of Transportation Headquarters, 400 Seventh Street SW., Washington, DC 20590.

Time: 10:30 a.m.

Proposed Agenda: Review and submission for approval of previous FICEMS Committee Meeting Minutes; Ambulance Design Subcommittee and Technology Subcommittee Reports; presentation of member agency reports; reports of other Interested parties; discussion on Federal programs and policies regarding Public Access Defibrillation.

SUPPLEMENTARY INFORMATION: This meeting will be open to the public with limited seating available on a first-come, first-served basis. Members of the general public who plan to attend the meeting should contact William Troup, United States Fire Administration, 16825 South Seton Avenue, Emmitsburg, Maryland 21727, (301) 447-1231, on or before Tuesday, December 5, 2000.

Minutes of the meeting will be prepared and will be available upon request 30 days after they have been approved at the next FICEMS Committee Meeting on March 1, 2001. Copies of the latest approved FICEMS Committee Meeting Minutes are also available for viewing and download from the following site on the World Wide Web; http://www.usfa.fema.gov/ems/ficems.htm.

Kenneth O. Burris, Jr.,
Chief Operating Officer, United States Fire Administration.

[FR Doc. 00-29777 Filed 11-20-00; 8:45 am]

BILLING CODE 6718-08-P